DEPARTMENT OF THE INTERIOR

Bureau of Land Management

[WY-921-1050-ET; WYW 87111]

Notice of Proposed Extension of Public Land Order No. 6597; Opportunity for Public Meeting; Wyoming

AGENCY: Bureau of Land Management, Interior.

ACTION: Notice.

SUMMARY: The Bureau of Land Management (BLM) proposes to extend Public Land Order No. 6597 for a 20-year period. This order withdrew public lands from settlement, sale, location, and entry under the general land laws, including the mining laws, to protect the White Mountain Petroglyphs Site in Sweetwater County. The lands have been and will remain open to mineral leasing. This notice also gives an opportunity to comment on the proposed action and to request a public meeting.

DATES: Comments and requests for a public meeting must be received by April 27, 2004.

ADDRESSES: Comments and meeting requests should be sent to the BLM Wyoming State Director, P.O. Box 1828, Cheyenne, Wyoming 82003-1828.

FOR FURTHER INFORMATION CONTACT: Janet Booth at 307-775-6124.

SUPPLEMENTARY INFORMATION: The Bureau of Land Management has filed an application to extend Public Land Order No. 6597. This withdrawal was made to protect important educational, scientific, and artistic values as well as the capital investments of the White Mountain Petroglyphs Site. Public Land Order No. 6597 will expire on March 25, 2005.

The withdrawal comprises approximately 20.00 acres of public land as described below:

Sixth Principal Meridian

T. 22 N., R. 105 W.,

Sec. 11, NE¼SE¼SE¼, N½SW¼SE¼SE¼;

Sec. 12, W½NW¼SW¼SW¼.

For a period of 90 days from the date of publication of this notice, all persons who wish to submit comments, suggestions, or objections in connection with the proposed extension may present their views in writing to the BLM Wyoming State Director.

Comments, including names and street addresses of respondents, will be available for public review at the Rock Springs Field Office, 280 Highway 191 North, Rock Springs, Wyoming, during regular business hours 7:30 a.m. to 4:30 p.m. Monday through Friday, except holidays. Individual respondents may request confidentiality. If you wish to withhold your name or address from public review or from disclosure under the Freedom of Information Act, you must state this prominently at the beginning of your comments. Such requests will be honored to the extent allowed by law. All submissions from organizations or businesses, and from individuals identifying themselves as representatives or officials of organizations or businesses, will be made available for public inspection in their entirety.

Notice is hereby given that an opportunity for a public meeting is afforded in connection with the proposed extension. All interested persons who desire a public meeting for the purpose of being heard on the proposed extension should submit a written request to the Wyoming State Director within 90 days from the date of publication of this notice. If the authorized officer determines that a public meeting will be held, a notice of the time and place will be published in the Federal Register at least 30 days before the scheduled date of the meeting.

This extension will be processed in accordance with the regulations set forth in 43 CFR 2310.4.

Dated: January 14, 2004.
Melvin Schlagel,
Realty Officer.

[FR Doc. 04-1800 Filed 1-27-04; 8:45 am]

BILLING CODE 4310-22-P